DEPARTMENT OF STATE

[Public Notice 7922]

Notice of Intent to Prepare an Environmental Impact Statement and Notice of Scoping Meeting

AGENCY: Department of State.

ACTION: Notice.

SUMMARY: In accordance with the National Environmental Policy Act (NEPA), 42 U.S.C. 4321-4347, the Department of State (DOS) announces its intent to prepare an Environmental Impact Statement (EIS) and initiate the scoping process for the proposed agency action as specified below. The EIS will evaluate the impacts on the affected environment, including, but not limited to, socioeconomics, traffic and transportation, land use, historic and cultural resources, noise, air quality, environmental justice, and cumulative impacts.

DATES: A public Scoping Meeting will be held on July 19, 2012, from 7:00 p.m. to 9:00 p.m.to inform stakeholders about the project and to receive public comments, questions and concerns regarding the scope of the EIS. The Scoping Meeting will be held at the Tifereth Israel Congregation, Cherner Auditorium, 770 16th Street NW., Washington, DC 20012. The public comment period will run until August 10, 2012.

ADDRESSES: All comments and questions on the Scoping Meeting and EIS can be directed by email to FMC.INFO@state.gov, by telephone (202) 471-5032, or by mail to: Geoffrey Hunt, Department of State, A/OPR/RPM, HST Room 1264, Washington DC 20520-1264.

SUPPLEMENTARY INFORMATION: Background: The mission of the Department of State (DOS), as the Federal executive agency responsible for international relations of the United States, is to shape and sustain a peaceful, prosperous, just, and democratic world and foster conditions for stability and progress for the benefit of the American people and people around the world. DOS has a number of domestic and international responsibilities associated with the establishment and operation of foreign missions in the United States. In this regard, DOS is responsible for assisting foreign missions with identifying properties on which they may locate and operate chanceries (commonly referred to as embassies) in the United States.

As one of the smallest capital cities in the world, the availability of adequate space for the construction and operation of modern chanceries by foreign missions has been a longstanding challenge in the District of Columbia. In response, pursuant to the International Chancery Act of 1968, Congress authorized DOS to undertake the development of the International Chancery Center (ICC), located near the intersection of Connecticut Avenue and Van Ness Street NW. The ICC has successfully allowed foreign missions to locate their chanceries in a purpose-built community, which was designed to both address the modern needs of such operations, as well as to mitigate to the extent possible negative impacts such facilities may have, or be perceived to have, with respect to neighboring properties and citizens. The ICC has proven to be a highly successful model for balancing the Federal government's need to accommodate foreign missions with the concerns of local citizens about the location and operation of foreign chanceries in the District of Columbia. Because all lots within the ICC are fully assigned, DOS is considering establishing a second location for a similar development.

Proposed Action: The proposed action is to prepare a Master Plan for the long-term development of a Foreign Missions Center on approximately 43.5 acres of the former Walter Reed Army Medical Center (WRAMC) site, located at 16th Street NW., between Aspen Street and Alaska Avenue in Washington, DC. The proposed action includes long-term leases of Federal land to foreign governments for the purpose of constructing and operating new chancery facilities. The term “chancery” in this context means the principal offices of a foreign mission (as defined in the Foreign Missions Act) used for diplomatic or related purposes, and any annexes to these offices or support facilities, and includes the site and any buildings on the site. After several years of considering the suitability of other locations throughout the District, the DOS has concluded that the former WRAMC site presents a viable option for undertaking a development of similar size and scale to the existing ICC. The proposed action would be developed in phases and is expected to accommodate several foreign missions and may have a small U.S. government building.

Cooperating Agencies: The Department of the Army will be requested to participate as a cooperating Federal agency for the EIS.

Public Participation: There will be a public scoping meeting on July 19, 2012, at 7:00 p.m. to 9:00 p.m. The Department of State and its consultants will present the proposed scope of the EIS analysis and will receive public comments at the scoping meeting. Written comments can be sent until August 10, 2012: by mail, postmarked no later than August 10, 2012, to the address listed above or by email to FMC.INFO@state.gov.

Dated: May 11, 2012.
Adam H. Bodner,
Director, Office of Real Property Management, U.S. Department of State.

[FR Doc. 2012-14712 Filed 6-15-12; 8:45 am]

BILLING CODE 4710-24-P